FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 010977-057.

Title: Hispaniola Discussion Agreement.

Parties: Crowley Liner Services; Seaboard Marine; Tropical Shipping and Construction Co. Ltd.; and Frontier Liner Services.

Filing Party: Wayne R. Rohde, Esq.; Sher & Blackwell; 1850 M Street, NW., Suite 900; Washington, DC 20036.

Synopsis: The amendment revises the amount of security required under the agreement.

Agreement No.: 011375-062.

Title: Trans-Atlantic Conference Agreement.

Parties: Atlantic Container Line AB; A. P. Moller-Maersk A/S; Hapag-Lloyd Container Linie GmbH; Mediterranean Shipping Company, S.A.; Nippon Yusen Kaisha; Orient Overseas Container Line Limited; and P&O Nedlloyd Limited.

Filing Party: Wayne R. Rohde, Esq.; Sher & Blackwell; 1850 M Street, NW., Suite 900; Washington, DC 20036.

Synopsis: The amendment deletes Ukraine from the geographic scope.

Agreement No.: 011587-011.

Title: United States South Europe Conference.

Parties: A.P. Moller-Maersk A/S; P&O Nedlloyd Limited; and Hapag-Lloyd Container Linie GmbH.

Filing Party: Wayne R. Rohde, Esq.; Sher & Blackwell; 1850 M Street, NW., Suite 900; Washington, DC 20036.

Synopsis: The amendment deletes Ukraine from the geographic scope.

Agreement No.: 011737-014.

Title: The MCA Agreement.

Parties: Atlantic Container Line AB; Alianca Navegacao e Logistica Ltda.; Antillean Marine Shipping Corporation; A.P. Moller-Maersk A/S; China Shipping Container Lines Co., Ltd.; CMA CGM S.A.; Companhia Libra de Navegacao; Compania Sud Americana de Vapores S.A.; CP Ships (UK) Limited, d/b/a ANZDL and also as Contship Containerlines; CP Ships USA LLC, d/b/a Italia Di Navigazione LLC, Lykes Lines Limited LLC, and TMM Lines Limited LLC; Crowley Liner Services, Inc.; Dole Ocean Cargo Express, Inc.; Hamburg-Süd; Hapag-Lloyd Container Linie; HUAL AS; Montemar Maritima S.A.; Norasia Container Line Limited; Safmarine Container Lines N.V.; Tropical Shipping & Construction Co., Ltd.; Wallenius Wilhelmsen Lines AS.

Filing Party: James R. Halley, Esq.; Halley & Halley, P.A.; 328 Crandon Boulevard; Suite 224-225; Key Biscayne, Florida 33149.

Synopsis: The amendment removes Great White Fleet as a party to the agreement. It also merges Italia Di Navigazione LLC, Lykes Lines Limited LLC, and TMM Lines Limited LLC under the name of CP Ships USA LLC.

Agreement No.: 011740-001.

Title: Maersk Sealand/CMA CGM Antilles Guyane/Marfret Mediterranean/Caribbean Vessel Sharing Agreement.

Parties: A.P. Moller-Maersk A/S; CMA CGM Antilles Guyane and Compagnie Maritime Marfret.

Filing Party: Wayne R. Rohde, Esq.; Sher & Blackwell; 1850 M Street, NW., Suite 900; Washington, DC 20036.

Synopsis: The amendment revises the names of Maersk Sealand and CMA CGM Antilles Guyane, deletes Nordana as a party to the agreement and revises the vessel contribution and allocation.

Agreement No.: 011913.

Title: King Ocean/Maersk Sealand Vessel Sharing Agreement.

Parties: King Ocean Services Limited and A.P. Moller-Maersk A.S.

Filing Party: Wayne R. Rohde, Esq.; Sher & Blackwell; 1850 M Street, NW., Suite 900; Washington, DC 20036.

Synopsis: The agreement authorizes King Ocean to charter space to Maersk Sealand in the trades between Port Everglades, Florida and Aruba, Curacao, and Venezuela.

By order of the Federal Maritime Commission.
Dated: April 22, 2005.
Bryant L. VanBrakle,
Secretary.

[FR Doc. 05-8408 Filed 4-26-05; 8:45 am]

BILLING CODE 6730-01-P